FEDERAL COMMUNICATIONS COMMISSION

47 CFR Part 73

[DA 05-743; MB Docket No. 05-141, RM-11219; MB Docket No. 05-142; RM-11220; and MB Docket No. 05-143, RM-11221]

Radio Broadcasting Services; Roma, TX; Romney, WV; and Strong, AR

AGENCY: Federal Communications Commission.

ACTION: Proposed rule.

SUMMARY: This document sets forth three proposals to amend the FM Table of Allotments, Section 73.202(b) of the Commission's rules, 47 CFR § 73.202(b). The Commission requests comment on a petition filed by Charles Crawford. Petitioner proposes the allotment of Channel 296C3 at Strong, Arkansas, as a first local FM service. Channel 296C3 can be allotted at Strong in compliance with the Commission's minimum distance separation requirements with a site restriction of 14.3 km (8.9 miles) north of Strona. The proposed coordinates for Channel 296C3 at Strong are 33-14-00 North Latitude and 92-18-00 West Longitude. See Supplementary Information infra.

DATES: Comments must be filed on or before May 10, 2005, and reply comments on or before May 25, 2005.

ADDRESSES: Federal Communications Commission, Washington, DC 20554. In addition to filing comments with the FCC, interested parties should serve the designated petitioner as follows: Charles Crawford, 4553 Bordeaux Avenue, Dallas, Texas 75205; Charles E. See, President, Cornwell & Ailes, Inc., Hampshire Review, Post Office Box 1036, 25 South Grafton Street, Romney, West Virginia 26757.

FOR FURTHER INFORMATION CONTACT: Deborah A. Dupont, Media Bureau (202) 418-7072.

SUPPLEMENTARY INFORMATION: This is a synopsis of the Commission's Notice of Proposed Rule Making, MB Docket Nos. 05-141, 05-142, and 05-143, adopted March 21, 2005, and released March 23, 2005. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Commission further requests comment on a petition filed by Charles Crawford. Petitioner proposes the allotment of channel 278A at Roma, Texas, as a first local FM service. Channel 278A can be allotted at Roma in compliance with the Commission's minimum distance separation requirements with a site restriction of 10.0 km (6.2 miles) east of Roma. The proposed coordinates for Channel 278A at Roma are 26-26-05 North Latitude and 98-55-16 West Longitude.

The Commission further requests comment on a petition filed by Charles E. See. Petitioner proposes the allotment of Channel 239A at Romney, West Virginia, as a first local FM service. Channel 239A can be allotted at Romney in compliance with the Commission's minimum distance separation requirements at center city reference coordinates without a site restriction. The proposed coordinates for Channel 239A at Romney are 39-20-31 North Latitude and 78-45-24 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1.The authority citation for Part 73 continues to read as follows:

Authority: 47 U.S.C. 154, 303, 334 and 336.

§ 73.202 [Amended]

2. Section 73.202(b), the Table of FM Allotments under Arkansas, is amended by adding Strong, Channel 296C3.

3. Section 73.202(b), the Table of FM Allotments under Texas, is amended by adding Channel 278A at Roma.

4. Section 73.202(b), the Table of FM Allotments under West Virginia, is amended by adding Channel 239A at Romney.

Federal Communications Commission.
John A. Karousos,
Assistant Chief, Audio Division, Media Bureau.

[FR Doc. 05-7080 Filed 4-12-05; 8:45 am]

BILLING CODE 6712-01-P